DEPARTMENT OF HEALTH AND HUMAN SERVICES

Centers for Disease Control and Prevention

Statement of Organizations, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 68 FR 65935-37, dated November 24, 2003) is amended to reorganize the Office of Analysis, Epidemiology, and Health Promotion and the Office of Information Technology and Services, National Center for Health Statistics.

Section C-B, Organization and Functions, is hereby amended as follows:

After the functional statement for the Office of Research and Methodology (CS13), insert the following:

Office of Information Services (CS14). The Office of Information Services (OIS) plans and administers complex information services production and dissemination systems for promoting access to, use and value of, health statistics data to Government officials, health organizations, researchers, and academia. (1) Plans, directs, coordinates and evaluates the information services program of the Center; (2) develops standards for information services production and dissemination; (3) conducts a technologically enhanced information services program utilizing state-of-the-art advancements in Internet and external Web-based products and services; (4) coordinates information services with other NCHS divisions and programs to meet Center goals effectively; (5) conducts research to improve methods and operations of information production and dissemination programs, emphasizing Web-based services; (6) designs, develops, and implements state-of-the-art systems for information production and dissemination, emphasizing Web-based systems; (7) provides technical assistance, consultation, and liaison to NCHS, CDC, DHHS, and outside private, domestic, and international organizations on information services programs and services which improve the access to, use, and availability of health statistics data for analysis; (8) promotes the integration of health statistics data information systems; and (9) develops and sustains collaborative partnerships within NCHS, CDC, DHHS, and externally with public, private, domestic, and international entities on health information services programs.

Office of the Director (CS141). (1) Provides leadership for the development, conduct, and evaluation of the national health statistics information services program; (2) directs, plans, and coordinates the health information dissemination and information production activities of the Division; (3) develops and administers a research and analytic program to improve the delivery of information services to constituents; (4) determines the most effective mix to provide the Center cost-effective and timely information dissemination, publications, and Internet/Extranet services using in-house and contractor-based resources; (5) provides technical assistance regarding data and information dissemination, publications and Internet services to Federal, State, local, public, and private organizations; and (6) leads development of collaborative partnerships within NCHS, CDC, and DHHS and externally with public, private, domestic, and international entities on health information services and the manner in which health statistics data may be accessed by users.

Information Dissemination Staff (CS142). (1) Plans, directs, and coordinates the health statistics information dissemination program for the National Center for Health Statistics; (2) designs, develops, and implements systems to disseminate and promote the use of NCHS data and information products; (3) manages a broad program of electronic dissemination activities using cutting-edge tools such as the Internet, extranet, CD-ROM, and other media; (4) develops and promotes the dissemination of a wide range of other information materials, including brochures, fact sheets, and exhibits to reach general and specialized audiences; (5) develops standards and policies for formatting and organizing electronic data and information products including micro-data, Listserv, publications, Web-only data releases, fact sheets and other dissemination tools; (6) coordinates with NCHS programs to identify, develop, produce, disseminate and market a range of printed and electronic information materials designed to meet user needs; (7) develops and sustains relationships with Federal, State, and local agencies, the scientific and research community, libraries, and national and international health organizations which foster access to and use of NCHS statistical information services; (8) operates a public inquiries program to respond to data and information requests; (9) provides technical assistance to users in acquiring and using NCHS data and information products; (10) conducts and participates in conferences, seminars, workshops, and exhibits to present the information and data of NCHS; (11) evaluates the presentation and dissemination of NCHS information; (12) conducts user surveys to determine users needs and translates these needs into NCHS product development and dissemination plans; (13) researches, evaluates, develops, and implements improved methods of information dissemination; (14) manages the inventory and storage of NCHS information products; and (15) deeps abreast of Federal information dissemination policies and programs.

Information Design and Publishing Staff (CS143). (1) Plans, directs, and conducts the NCHS information publishing program; (2) develops, recommends, and implements policies and standards for electronic and printed publishing at NCHS; (3) provides consultation and technical assistance to NCHS programs regarding publication policies, operational procedures, presentation techniques, and graphic services; (4) interprets and applies CDC standards and provides input to CDC officials regarding issues unique to the design and production of NCHS electronic and printed materials; (5) researches and adopts emerging technology to improve timeliness, cost-savings, and quality of electronic and printed products; (6) directs, coordinates, and provides liaison between NCHS and other agencies on joint information design and publishing projects; (7) provides design, editing, technical writing, and production support for all NCHS published products, including the NCHS Web site; (8) plans, designs, produces, monitors, and administers the NCHS Web site; (9) develops specifications, sets standards, coordinates, and produces NCHS reports; (10) provides graphic and multimedia design services for all NCHS programs; (11) prioritizes, coordinates, and controls all NCHS electronic publications and print products; (12) establishes, administers, and monitors contracts to provide editing, technical writing, graphic support, and printing services for NCHS; and (13) plans, develops and implements systems for tracking production of NCHS electronic information products, printed publications, and graphic products to insure timely releases.

After the functional statement for the Classifications and Public Health Data Standards Staff (CS18), insert the following:

Office of Information Technology (CS19). (1) Directs, plans and coordinates information technology services for NCHS; (2) serves as the focal point for Information Technology research activities for NCHS-wide systems and in that capacity represents NCHS in developing technology partnerships with other agencies, both public and private; (3) maintains knowledge of strategic business processes in the private and public sector, and leads the development of Information Technology Policy planning for NCHS; (4) provides for the development and implementation of the Information Technology Plans for NCHS and directs the maintenance of the information technology architecture of NCHS; (5) serves as the focal point for the NCHS Information Technology Advisory Board and its working groups and serves as a clearinghouse for IT information on issues under consideration by the Board; (6) conducts applied research studies on existing and emerging information technologies and methodologies, and their applicability to NCHS critical business needs; (7) provides IRM policy coordination for the Center and systems contract support; (8) represent NCHS to other public and private health agencies, foundations and statistical agencies on Information Technology activities; (9) provides software consultation, data base management, research, design, and support services needed by NCHS survey, registration and administrative systems, emphasizing projects which are not program specific; (10) plans, coordinates and conducts the NCHS computer training activities to enhance the use of information technologies and methodologies by Center staff; (11) manages and administers contracts for Center-wide emerging information technology services; and (12) actively participates with state, national and international agencies, associations, foundations and working groups involved in emerging technologies to enhance the IT environment between NCHS and its partners.

Office of the Director (CS191). (1) In partnership with NCHS programs, devises IT practices and procedures and provides direction, planning and evaluation for overall information technology services and infrastructure at NCHS; (2) identifies needs and makes recommendations for procurement of technology and services to support NCHS activities; (3) evaluates and recommends new information technology software and methods in support of NCHS programs; (4) serves as the primary point of contact in NCHS to represent the Center's IT infrastructure services needs to the CDC Information Technology Services Office (ITSO); (5) develops and administers an annual planning process to identify all requirements of NCHS programs for new IT Infrastructure products and services; (6) maintains close collaboration with the CDC ITSO and coordinates capital planning and business case development for NCHS IT investments; (7) provides continuous evaluation of the NCHS IT program to certify adherence to all HHS Enterprise Architecture and CDC IT infrastructure policies, and technical standards; (8) provides technical assistance and information exchange services regarding NCHS information technology activities to Federal, State and local, public and private organizations; and (9) represents NCHS at national and international meetings regarding emerging information technologies and methodologies.

Software Solutions and Engineering Staff (CS192). (1) Conducts and evaluates studies on emerging software technologies and methodologies for NCHS as input to the IT and IRM planning process and serves as a clearinghouse on these emerging technologies for NCHS; (2) provides consulting and software life-cycle development support for NCHS business process re-engineering activities; (3) develops information systems to monitor and evaluate the implementation of the CDC provided IT infrastructure components and contracts to ensure that NCHS programs receive all services in accordance with negotiated Service Level Agreements (SLA); (4) partners with NCHS programs, outside agencies and the States, to pilot the application of new software technologies and methodologies to meet evolving business needs; (5) manages and administers contractual services for software consulting, design, development, and integration of innovative technologies at NCHS; (6) partners with NCHS programs and the States to evaluate and support the application of emerging technologies and data conversion activities related to data dissemination services and products inclusive of automated data access systems on the Internet, CD-ROM and other data storage and retrieval media; (7) conducts and evaluates feasibility studies on new technologies to support IT training; (8) develops, manages, procures and implements the NCHS IT training program; and (9) coordinates IT user groups.

Delete in its entirety the title and functional statement for the Office of Information Technology and Services (CS3).

Delete in its entirety the title and functional statement for the Office of Analysis, Epidemiology, and Health Promotion (CS4) and insert the following:

Office of Analysis and Epidemiology (CS4). (1) Participates in the development of policy, long-range plans, and programs of the Center; (2) plans, directs, and coordinates the Analysis and Epidemiology Program of the Center; (3) develops policy for the Analysis and Epidemiology Program of the Center; (4) conducts developmental and evaluation research and analysis in the areas of epidemiology, health status, health services utilization, health promotion, and health economics; (5) provides operating liaison with other programs of the Center, CDC, the Department and other public and private health agencies on activities related to analysis, epidemiology, and health promotion; (6) provides consultation and technical assistance to Federal agencies, states, and other public and private sector institutions on the analysis and interpretation of national health statistics; and (7) augments the policy analysis activities of CDC.

Delete in their entirety the title and functional statements for the Division of Epidemiology (CS44) and the Division of Health and Utilization Analysis (CS45).

Delete in their entirety the title and functional statement for the Division of Health Promotion Statistics (CS46) and insert the following:

Health Promotion Statistics Branch (CS46). (1) Develops policies, plans, and strategies for the implementation of surveillance and data systems in support of the Department's health promotion and disease prevention objectives; (2) coordinates the health promotion and disease prevention related data collection activities of the Center; (3) serves as liaison with the Department's Office of Disease Prevention and Health Promotion; (4) provides support and technical assistance to state and local health agencies in the areas of statistical assessment and the use of data for policy development and program planning; (5) coordinates Center activities that assess the progress on the elimination of health disparities; (6) establishes consensus-building processes involving CDC, the Department, state and local agencies, and the private sector to identify priority data gaps on national health promotion objectives and recommends solutions to fill these gaps; and (7) designs, develops, and implements computer data processing systems and software and produces statistical data for analysis.

Aging and Chronic Disease Statistics Branch (CS47). (1) Conducts methodological research and epidemiological analysis of significant public health problems including the etiology and sequela of chronic disease incidence and prevalence, aging, and functional limitation; (2) develops and conducts a comprehensive research program on the health and health care of the aging population; (3) conducts methodological research and analysis focused on the relationship between demographic, social, and biological factors, health care, and chronic disease and aging; (4) collaborates with and provides consultation and technical assistance to other agencies in the collection, analysis, interpretation and dissemination of data on mortality, morbidity, and chronic disease and issues related to the aging population; and (5) prepares research and analytic reports for publication and dissemination.

Infant, Child and Women's Health Statistics Branch (CS48). (1) Using statistical data from multiple sources, develops and conducts a comprehensive research program on infant, child and women's health; (2) conducts methodological research on the relationship on social and biological factors during pregnancy, infancy, and early childhood to mortality and morbidity and on the multiple factors influencing women's health; (3) provides operational liaison with programs of other public and private agencies involved with the development and advancement of health programs aimed at the prevention of infant mortality and morbidity and the promotion of women's health; (4) provides consultation and technical assistance to other agencies in the collection, analysis and interpretation of data on women's health and on perinatal morbidity and mortality; and (5) prepares research and analytic reports for publication and dissemination.

Special Projects Branch (CS49). (1) Plans, directs, and manages the Center's multi-faceted methodological research program on major public health issues including disability, injury statistics and data linkage and sample tracking; (2) develops and coordinates an integrated Center-wide research plan on the epidemiology of injury, including methodological research on injury classification; (3) provides leadership for the coordination of international activities aimed at improving the quality and reliability of international statistics related to injury; (4) develops and coordinates an integrated Center-wide research plan on disability statistics including methodological research on disability measurement; (5) provides leadership for the coordination of national and international activities on disability questionnaire design and data analysis; (6) develops and executes tracking and record-linkage activities that trace and collect additional information for respondents to the Center's cross-sectional health surveys; and (7) develops, plans, and implements studies evaluating the Center's linkage projects.

Analytic Studies Branch (CS4A). (1) Serves as a focal point for a Center-wide analytical program aimed at the assessment and development of health data from multiple sources designed to facilitate the analysis of emerging public health issues and problems; (2) conducts and coordinates in-depth statistical analyses of special population groups relating to their health characteristics and their health care needs; (3) coordinates preparation of the Secretary's annual report, Health, United States, on the health status of the Nation to the President and the Congress in compliance with Section 308 of the PHS Act and other recurring and special reports requested by the Department; (4) provides leadership and expertise in the application of sophisticated statistical techniques related to the problem of integrating and analyzing data from diverse sources; (5) conducts research on the economic aspects of health status and health services; and (6) prepares research and analytical reports for publication and dissemination.

Dated: December 16, 2003.
William H. Gimson,
Chief Operating Officer, Centers for Disease Control and Prevention.

[FR Doc. 03-31908 Filed 12-31-03; 8:45 am]

BILLING CODE 4160-18-M